Proclamation 9196 of October 17, 2014

National Character Counts Week, 2014

By the President of the United States of America

A Proclamation

For generations, our Nation's beliefs in mutual respect, shared responsibility, and equality for all have strengthened our bond as a people and guided our path—uniting us in times of crisis and inspiring us in moments of triumph. During National Character Counts Week, we reaffirm the principles that built America and dedicate ourselves to passing on our highest ideals to our children.

We see the true character of our country in the examples set by the work and lives of our people. We see it in the educators, mentors, and parents who teach our kids not only to understand math and history, but also to know and show compassion and respect. We see it in first responders who put themselves in harm's way to protect strangers, and in our men and women in uniform who selflessly serve the land we love and defend the values we cherish. And we see it in small acts of kindness that define who we are as Americans and help us recognize our common humanity.

When we give our daughters and sons a foundation of integrity, hard work, and responsibility, and when we empower them with the courage to choose these values in the face of cynicism, we prepare them for a lifetime of engaged citizenship and create stronger communities across America. This week, and all year long, let us all do our part to ensure the fundamental tenets that have shaped our Union from its founding continue to sustain us and draw out the best in each of us.

NOW, THEREFORE, I, BARACK OBAMA, President of the United States of America, by virtue of the authority vested in me by the Constitution and the laws of the United States, do hereby proclaim October 19 through October 25, 2014, as National Character Counts Week. I call upon public officials, educators, parents, students, and all Americans to observe this week with appropriate ceremonies, activities, and programs.

IN WITNESS WHEREOF, I have hereunto set my hand this seventeenth day of October, in the year of our Lord two thousand fourteen, and of the Independence of the United States of America the two hundred and thirty-ninth.

[FR Doc. 2014-25294

Filed 10-22-14; 8:45 am]

Billing code 3295-F5